DEPARTMENT OF THE INTERIOR

Bureau of Land Management

[WO-310-1310-PB-01-24 1A]

Extension of Approved Information Collection, OMB Number 1004-0135

AGENCY: Bureau of Land Management, Interior.

ACTION: Notice and request for comments.

SUMMARY: In accordance with the Paperwork Reduction Act of 1995, the Bureau of Land Management (BLM) announces its intention to request renewal of an existing approval to collect information from those persons who submit a Form 3160-5, Sundry Notices and Reports on Wells. The information allows BLM to approve proposed operations and ensure compliance with granted approvals.

DATES: Comment on the proposed information collection must be received by October 17, 2000 to assure consideration of them.

ADDRESSES: Comments may be mailed to: Regulatory Affairs Group (630), Bureau of Land Management, 1849 C Street, NW., Room 401LS, Washington, DC 20240.

Comments may be sent via Internet to: WOComment@blm.gov. Please include “Attn: 1004-0135” and your name and return address in your Internet message.

You may hand-deliver comments to the Bureau of Land Management, Administrative Record, Room 401, 1620 L Street, NW., Washington, DC.

BLM will make comments available for public review at the L Street address during regular business hours (7:45 a.m. to 4:15 p.m.), Monday through Friday.

FOR FURTHER INFORMATION CONTACT: Barbara Gamble, Fluid Minerals Group, (202) 452-0338.

SUPPLEMENTARY INFORMATION: In accordance with 5 CFR 1320.12(a), BLM is required to provide 60-day notice in the Federal Register concerning a collection of information contained in published current rules to solicit comments on (a) whether the proposed collection of information is necessary for the proper performance of the functions of the agency, including whether the information will have practical utility; (b) the accuracy of the agency's estimate of the burden of the proposed collection, including the validity of the methodology and assumptions used; (c) ways to enhance the quality, utility, and clarity of the information to be collected; and (d) ways to minimize the burden of the collection of information on those who are to respond, including through the use of appropriate automated, electronic, mechanical, or other technological collection techniques or other forms of information technology. BLM will receive and analyze any comments sent in response to this notice and include them with its request for approval from the OMB under 44 U.S.C. 3501 et seq.

In accordance with the Federal Oil and Gas Royalty Management Act of 1982 (30 U.S.C. 1701 et seq.); the Mineral Leasing Act of 1920, as amended (30 U.S.C. et seq.), the Mineral Leasing Act for Acquired Lands of 1947, as amended (30 U.S.C. 351-359); the various Indian leasing acts; and the National Environmental Policy Act of 1969, as amended (42 U.S.C. 4321 et seq.), BLM's regulations at 43 CFR 3162.3-2 require oil and gas operators on Federal and restricted Indian lands to submit Form 3160-5, Sundry Notices and Reports on Wells, in order to obtain authority to perform specific additional operations on a well and to report the completion of such work. In addition, 43 CFR 3162.5-1 provides authority to require the operator to exercise diligence when disposing of produced waters. The specific data required on this form concerns modifications to existing wells or construction requirements of produced water disposal pits. The regulation at 3162.3-2 divides the proposed action into three categories based on the nature of the impact. Some actions require submitting the form for approval prior to beginning work and again after completion of operations; other actions require submission only after completion; and still others do not require reporting.

All data are delivered to the BLM by the operator or its agent. The data pertains to modifying operations conducted under the terms and provisions of an oil and gas lease (a contractual agreement between a lessee and the United States) for Federal or restricted Indian lands. The compilation of this data enables oversight and approval prior to any modifications to existing wells. In the case of a produced water disposal pit approval, the data provides the technical aspects of pit design to allow for sufficient water containment, thereby preventing unnecessary releases of produced water into the environment.

Based on BLM's experience administering the activities described above, the public reporting burden for the information collected is estimated to average 25 minutes per response. Respondents are operators and operating rights owners of Federal and Indian (except Osage) oil and gas leases. The frequency of response is variable depending on the type of activities conducted at oil and gas wells and on operational circumstances. Approximately 34,000 notices will be filed annually; the estimated total annual burden on new respondents is about 14,166 hours. BLM is specifically requesting your comments on its estimate of the amount of time that it takes to prepare a response.

Any interested member of the public may request and obtain, without charge, a copy of Form 3160-5 by contacting the person identified under FOR FURTHER INFORMATION CONTACT.

BLM will summarize all responses to this notice and include them in the request for Office of Management and Budget approval. All comments will also become a matter of public record.

Dated: August 15, 2000.
Shirlean Beshir,
BLM Information Clearance Officer.

[FR Doc. 00-21110 Filed 8-17-00; 8:45 am]

BILLING CODE 4310-84-M